DEPARTMENT OF TRANSPORTATION

Federal Aviation Administration

14 CFR Parts 413 and 417

[Docket No. FAA-2000-7953; Amendment Nos. 401-4, 406-3, 413-7, 415-4, 417-0]

RIN 2120-AG37

Licensing and Safety Requirements for Launch; Correction

AGENCY: Federal Aviation Administration (FAA), DOT.

ACTION: Final rule; correction.

SUMMARY: This document makes two minor corrections to a final rule that amends commercial space transportation regulations governing the launch of expendable launch vehicles. 71 FR 50507 (Aug. 25, 2006). This action is necessary to correct a paragraph designation and add a notation of a reserved appendix. This correction does not make substantive changes to the final rule.

EFFECTIVE DATES: September 25, 2006.

FOR FURTHER INFORMATION CONTACT: René Rey, Licensing and Safety Division, AST-200, Federal Aviation Administration, 800 Independence Avenue, SW., Washington, DC 20591; telephone (202) 267-7538; e-mail Rene.Rey@faa.gov.

SUPPLEMENTARY INFORMATION:

Background

In the August 25, 2006, final rule (71 FR 50507, 50531), amendatory instruction no. 6 added paragraph (d), Measurement system consistency to 14 CFR 413.7. However, an earlier FAA action had added paragraph (d), Safety approval to § 413.7. 71 FR 46847, 46852 (Aug. 15, 2006). It was not the FAA's intention in the August 25, 2006 rule to supersede the previously added paragraph (d). Thus, we are changing the paragraph designation of Measurement system consistency to 14 CFR 413.7(e).

Also, in the August 25, 2006 rule, amendatory instruction no. 21 added 14 CFR part 417 in its entirety. 71 FR at 50537. The table of contents for the part indicated that appendix F was reserved for future use. However, the text of part 417 inadvertently failed to include any reference to the existence of the reserved appendix. To avoid any possible confusion, we are adding a notation referencing the reserved appendix between the text of appendix E of part 417 and the text of appendix G of part 417.

Justification for Expedited Rulemaking

Section 553 of the Administrative Procedure Act, 5 U.S.C. 553(b)(B), provides that, when an agency for good cause finds that notice and public procedure are impracticable, unnecessary, or contrary to the public interest, the agency may issue a rule without providing notice and an opportunity for public comment. We have determined there is good cause for making today's action final without prior proposal and opportunity for comment because the changes are minor technical corrections and do not change the substantive requirements of the rule. Thus, notice and public procedure are unnecessary.

List of Subjects

14 CFR Part 413

Rockets, Space transportation and exploration.

14 CFR Part 417

Rockets, Space transportation and exploration.

The Amendment

Accordingly, the FAA amends Chapter 1 of Title 14 of the Code of Federal Regulations as follows:

PART 413—LICENSE APPLICATION PROCEDURES

1. The authority citation for part 413 continues to read as follows:

Authority: 49 U.S.C. 70101-70121.

2. Amend § 413.7 by removing paragraph (d) that was added on August 25, 2006 (71 FR 50531), and by adding paragraph (e) to read as follows:

§ 413.7 Application.

* * * * *

(e) Measurement system consistency. For each analysis, an applicant must employ a consistent measurements system, whether English or metric, in its application and licensing information.

PART 417—LAUNCH SAFETY

3. The authority citation for part 417 continues to read as follows:

Authority: 49 U.S.C. 70101-70121.

4. Amend part 417 by adding the heading of Appendix F in alphabetical order as follows:

Appendix F of Part 417—[Reserved]

Issued in Washington, DC, on September 11, 2006.
Ida M. Klepper,
Acting Director, Office of Rulemaking.

[FR Doc. 06-8235 Filed 9-25-06; 8:45 am]

BILLING CODE 4910-13-P